DEPARTMENT OF LABOR

Employment and Training Administration

[TA-W-62,759]

Inverness Corporation, Fairlawn, NJ; Notice of Termination of Investigation

In accordance with section 221 of the Trade Act of 1974, as amended, an investigation was initiated on January 29, 2008 in response to a worker petition filed on behalf of workers of Inverness Corporation, Fairlawn, New Jersey.

The petition regarding the investigation was signed by only one worker and therefore has been deemed invalid. Consequently, this investigation has been terminated.

Another valid petition has been received for the same worker group. That petition was instituted February 13, 2008 under TA-W-62,839.

Signed in Washington, DC, this 13th day of February, 2008.
Richard Church,
Certifying Officer, Division of Trade Adjustment Assistance.

[FR Doc. E8-3214 Filed 2-21-08; 8:45 am]

BILLING CODE 4510-FN-P